DEPARTMENT OF TRANSPORTATION

Intelligent Transportation Systems Program Advisory Committee; Notice of Meeting

AGENCY: ITS Joint Program Office, Research and Innovative Technology Administration, U.S. Department of Transportation.

ACTION: Notice.

The Intelligent Transportation Systems (ITS) Program Advisory Committee (ITS PAC) will hold a meeting on October 10, 2012, from 8 a.m. to 5 p.m. (EST), and on October 11, 2012, from 8 a.m. to 4 p.m. (EST) in Room 1122, Building 520 of the University of Michigan North Campus Research Complex, 1600 Huron Parkway, Ann Arbor, Michigan 48109.

The ITS PAC, established under Section 5305 of Public Law 109-59, Safe, Accountable, Flexible, Efficient Transportation Equity Act: A Legacy for Users, August 10, 2005, and re-chartered on January 23, 2012, was created to advise the Secretary of Transportation on all matters relating to the study, development, and implementation of intelligent transportation systems. Through its sponsor, the ITS Joint Program Office, the ITS PAC makes recommendations to the Secretary regarding ITS Program needs, objectives, plans, approaches, content, and progress.

The following is a summary of the meeting tentative agenda. October 10: (1) Opening Remarks; (2) ITS Joint Program Office Briefing; (3) ITS Technology Review; (4) Safety Pilot Demonstration; and (5) Discussion of Safety Pilot Program. October 11: (1) ITS Security/Implementation Discussion; (2) Subcommittee Breakout Meetings; (3) Subcommittee Reports; (4) 2012 Interim Advice Memorandum Discussion; and (5) Summary and Wrap-up.

The meeting will be open to the public, but limited space will be available on a first-come, first-served basis. Members of the public who wish to present oral statements at the meeting must request approval from Mr. Stephen Glasscock, the Committee Designated Federal Official, at (202) 366-9126 not later than October 3, 2012.

Questions about the agenda or written comments may be submitted by U.S. Mail to: U.S. Department of Transportation, Research and Innovative Technology Administration, ITS Joint Program Office, Attention: Stephen Glasscock, 1200 New Jersey Avenue SE, HOIT, Washington, DC 20590 or faxed to (202) 493-2027. The ITS Joint Program Office requests that written comments be submitted not later than October 3, 2012.

Notice of this meeting is provided in accordance with the Federal Advisory Committee Act and the General Services Administration regulations (41 CFR Part 102-3) covering management of Federal advisory committees.

Issued in Washington, DC, on the 10th day of September 2012.
Shelley Row,
Director, ITS Joint Program Office.

[FR Doc. 2012-22806 Filed 9-17-12; 8:45 am]

BILLING CODE 4910-HY-P